DEPARTMENT OF EDUCATION

[Docket No. ED-2018-ICCD-0101]

Agency Information Collection Activities; Comment Request; State Survey on Activities Supported on Student Support and Academic Enrichment Grants (Title IV, Part A)

AGENCY: Office of Planning, Evaluation and Policy Development (OPEPD), Department of Education (ED).

ACTION: Notice.

SUMMARY: In accordance with the Paperwork Reduction Act of 1995, ED is proposing a new information collection.

DATES: Interested persons are invited to submit comments on or before December 3, 2018.

ADDRESSES: To access and review all the documents related to the information collection listed in this notice, please use http://www.regulations.gov by searching the Docket ID number ED-2018-ICCD-0101. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 550 12th Street SW, PCP, Room 9089, Washington, DC 20202-0023.

FOR FURTHER INFORMATION CONTACT: For specific questions related to collection activities, please contact Leticia Braga, 202-401-7767.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: State Survey on Activities Supported on Student Support and Academic Enrichment Grants (Title IV, Part A).

OMB Control Number: 1875—NEW.

Type of Review: A new information collection.

Respondents/Affected Public: State, Local, and Tribal Governments.

Total Estimated Number of Annual Responses: 17.

Total Estimated Number of Annual Burden Hours: 17.

Abstract: The study will examine the early implementation of Student Support and Academic Enrichment (SSAE) grants, a new state-administered grant program created through the 2016 Every Student Succeeds Act (ESSA). This program has the goal of improving student academic achievement by increasing the capacity of states, school districts, schools, and local communities to: (1) Provide all students with access to a well-rounded education (Section 4109); (2) improve school conditions for student learning (Section 4108); and (3) improve the use of technology in order to improve the academic achievement and digital literacy of all student (Section 4109).

Within these three broad areas, the statute outlines a large number of potential activities that states and school districts can support, and the Department of Education has little information about the extent to which state and school districts are using SSAE funds for the wide range permissible activities. To provide an early look at how SSAE funds are being used, this study will conduct a survey of all states in Spring 2019 to obtain information about the types of activities stat states and school districts are supporting with SSAE Fiscal Year (FY) 18 funds during the 2018-19 school year.

Dated: September 28, 2018.
Stephanie Valentine,
Acting Director, Information Collection Clearance Division, Office of the Chief Privacy Officer, Office of Management.

[FR Doc. 2018-21552 Filed 10-2-18; 8:45 am]

BILLING CODE 4000-01-P